FEDERAL TRADE COMMISSION

16 CFR Part 455

[Project No. P087604]

Used Motor Vehicle Trade Regulation Rule

AGENCY: Federal Trade Commission.

ACTION: Reopening of comment period.

SUMMARY: On July 21, 2008, the Federal Trade Commission (“FTC” or “Commission”) published a Federal Register notice soliciting public comments in connection with its review of the Used Motor Vehicle Trade Regulation Rule (“Used Car Rule” or “Rule”).¹ The notice stated that comments must be received by September 19, 2008. The Commission subsequently extended the time within which to submit comments until November 19, 2008.² On March 17, 2009, the Commission received supplemental comments from the National Automobile Dealers Association and the National Independent Dealers Association responding to comments made by other interested parties during the comment period. In response to those comments and to provide all interested parties with the same opportunity to comment, the Commission has decided to reopen the comment period for forty-five days.

¹ 73 Fed. Reg. 42,285 (July 21, 2008).

² 73 Fed. Reg. 55,458 (Sept. 25, 2008).

DATES: Comments addressing the Used Car Rule must be received on or before June 15, 2009.

ADDRESSES: Interested parties are invited to submit written comments electronically or in paper form. Comments should refer to “Used Car Regulatory Review, Matter No. P087604” to facilitate the organization of comments. Please note that your comment—including your name and your state—will be placed on the public record of this proceeding, including on the publicly accessible FTC Website, at (http://www.ftc.gov/os/publiccomments.shtm).

Because comments will be made public, they should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secret or any commercial or financial information which is obtained from any person and which is privileged or confidential. . . .,” as provided in Section 6(f) of the Federal Trade Commission Act (“FTC Act”), 15 U.S.C. 46(f), and FTC Rule 4.10(a)(2), 16 CFR 4.10(a)(2). Comments containing material for which confidential treatment is requested must be filed in paper form, must be clearly labeled “Confidential,” and must comply with FTC Rule 4.9(c), 16 CFR 4.9(c).³

³ The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (http://secure.commentworks.com/ftc-UsedCarRuleReopen) (and following the instructions on the web-based form). To ensure that the Commission considers an electronic comment, you must file it on the web-based form at the weblink (http://secure.commentworks.com/ftc-UsedCarRuleReopen). If this Notice appears at (http://www.regulations.gov/search/index.jsp), you may also file an electronic comment through that website. The Commission will consider all comments that regulations.gov forwards to it. You may also visit the FTC website at (http://www.ftc.gov/opa/2008/07/ucr.shtm) to read the Federal Register notice announcing the request for public comments and the news release describing it.

A comment filed in paper form should include the “Used Car Regulatory Review, Matter No. P087604” reference both in the text and on the envelope, and should be mailed or delivered to the following address: Federal Trade Commission, Office of the Secretary, Room H-135 (Annex H ), 600 Pennsylvania Avenue, NW, Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC Website, to the extent practicable, at (http://www.ftc.gov/os/publiccomments.shtm). As a matter of discretion, the Commission makes every effort to remove home contact information for individuals from the public comments it receives before placing those comments on the FTC Website. More information, including routine uses permitted by the Privacy Act, may be found in the FTC’s privacy policy, at (http://www.ftc.gov/ftc/privacy.shtm).

FOR FURTHER INFORMATION CONTACT: John C. Hallerud, Attorney, Midwest Region, Federal Trade Commission, 55 West Monroe Street, Suite 1825, Chicago, Illinois 60603, (312) 960-5615.

SUPPLEMENTARY INFORMATION: The Commission’s July 21, 2008 Federal Register notice sought comments on the Rule’s costs, benefits, and effectiveness. The notice also requested comments on whether the Rule should permit used car dealers to use a single bilingual Buyers Guide and, if so, on how to design a bilingual Buyers Guide. In addition, it asked for comments on the Buyers Guide’s pre-printed list of major defects that may occur in used motor vehicles. Finally, the notice solicited comments on whether the Rule should be revised to permit dealers to use alternative Buyers Guides intended to facilitate the disclosure of manufacturer’s warranties and other third-party warranties.

The comment period closed on November 19, 2008. Twenty comments were received during the comment period.

On March 17, 2009, the Commission received supplemental comments from the National Automobile Dealers Association and the National Independent Automobile Dealers Association responding to comments made by other interested parties during the comment period. To provide all interested parties with the same opportunity to comment further, the Commission has decided to reopen the comment period. The Commission believes that the benefit of enhancing the record by reopening the comment period outweighs any delay. Accordingly, the Commission has decided to reopen the comment period for forty-five days.

By direction of the Commission.

Donald S. Clark,
Secretary.

[FR Doc. E9-9808 Filed 4-29-09: 8:45 am]

BILLING CODE 6750-01-S